DEPARTMENT OF DEFENSE

Office of the Secretary

[Docket ID: DoD-2021-OS-0026]

Proposed Collection; Comment Request

AGENCY: Office of the Under Secretary of Defense for Personnel and Readiness, Department of Defense (DoD).

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 25, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to The Office of People Analytics, 4800 Mark Center Drive, Suite 06E22, Alexandria, VA 22350, Kristin Williams, 703-963-3047.

SUPPLEMENTARY INFORMATION:

Title; Associated Form; and OMB Number: Workplace and Gender Relations Survey of DoD Civilians; OMB Control Number 0704-WGRC.

Needs and Uses: This survey is used to solicit information on gender issues, including issues relating to sexual assault, sexual harassment, and gender discrimination in the DoD civilian employee workplace, as well as the climate in the Department for forming professional relationships between male and female employees. They also give the Department authority to conduct such surveys under the guidance of the Under Secretary of Defense for Personnel and Readiness (USD(P&R)).

The Office of People Analytics (OPA) administers both web-based and paper-and-pen surveys to support the personnel information needs of the USD(P&R). The WGRC survey expands a series of surveys that began in 1988 with military personnel to DoD civilian employees. OPA conducted Joint Service gender issues surveys of active duty members in 1988, 1995, 2002, 2006, 2010, 2012, 2016, and 2018, and of Reserve component members in 2004, 2008, 2012, 2015, 2017, and 2019. This is the third iteration of WGRC surveys with DoD civilian employees, with the first iteration occurring in 2016 and second administration in 2018. The WGRC survey is legislatively required to be conducted every two years.

Information from the WGR surveys will be used by DoD policy offices, the Military Departments, and Congress for program evaluation and, specifically, to assess and improve personnel policies, programs, practices, and training related to gender relations in the DoD civilian workplace. OPA will provide reports to DoD policy offices, each Military Department, the Joint Chiefs of Staff (JCS), and Congress.

Affected Public: Individuals or households.

Annual Burden Hours: 67,500 hours.

Number of Respondents: 135,000 respondents.

Responses per Respondent: 1.

Annual Responses: 135,000.

Average Burden per Response: 30 minutes.

Frequency: Biennially.

Dated: April 21, 2021.
Aaron T. Siegel,
Alternate OSD Federal Register Liaison Officer, Department of Defense.

[FR Doc. 2021-08658 Filed 4-23-21; 8:45 am]

BILLING CODE 5001-06-P